DEPARTMENT OF TRANSPORTATION

[Docket No. DOT MARAD-2013-0149]

Agency Requests for Renewal of a Previously Approved Information Collection(s): War Risk Insurance, Applications and Related Information

AGENCY: Maritime Administration, DOT.

ACTION: Notice and request for comments.

SUMMARY: The Department of Transportation (DOT) invites public comments about our intention to request the Office of Management and Budget (OMB) approval to renew an information collection. The information to be collected is necessary to determine the eligibility of the applicant and the vessel(s) for participation in the war risk insurance program. We are required to publish this notice in the Federal Register by the Paperwork Reduction Act of 1995, Public Law 104-13.

DATES: Written comments should be submitted by February 18, 2014.

ADDRESSES: You may submit comments [identified by Docket No. DOT-OST-2013-0149] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Michael Yarrington, 202-366-1915, Division of Marine Insurance, Maritime Administration, U.S. Department of Transportation, 1200 New Jersey Avenue SE., Washington, DC 20590, Email: Michael.Yarrington@dot.gov. Copies of this collection also can be obtained from that office.

SUPPLEMENTARY INFORMATION:

OMB Control Number: 2133-0011.

Title: War Risk Insurance, Applications and Related Information.

Form Numbers: MA-355; MA-528; MA-742; MA-828, and MA-942.

Type of Review: Renewal of previously approved information collection.

Background: As authorized by Chapter 539 of 46 U.S.C., the Secretary of the U.S. Department of Transportation may provide war risk insurance adequate for the needs of the waterborne commerce of the United States if such insurance cannot be obtained on reasonable terms from qualified insurance companies operating in the United States. This collection is required for the program. The collection consists of forms MA-355, MA-528, MA-742, MA-828, and MA-942.

Respondents: Vessel owners or charterers interested in participating in MARAD's war risk insurance program.

Number of Respondents: 20.

Frequency: Once annually.

Estimated Average Burden per Response: 12.8 hours.

Total Annual Burden: 256.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: The Paperwork Reduction Act of 1995; 44 U.S.C. Chapter 35, as amended; and 49 CFR 1.93.

Dated: December 12, 2013.
Julie P. Agarwal,
Secretary, Maritime Administration.

[FR Doc. 2013-30361 Filed 12-19-13; 8:45 am]

BILLING CODE 4910-81-P